DEPARTMENT OF DEFENSE

GENERAL SERVICES ADMINISTRATION

NATIONAL AERONAUTICS AND SPACE ADMINISTRATION

48 CFR Parts 39 and 52

[FAC 2005-78; FAR Case 2014-006; Item III; Docket 2011-0023, Sequence 1]

RIN 9000-AM53

Federal Acquisition Regulation; Year Format

AGENCIES: Department of Defense (DoD), General Services Administration (GSA), and National Aeronautics and Space Administration (NASA).

ACTION: Final rule.

SUMMARY: DoD, GSA, and NASA are issuing a final rule amending the Federal Acquisition Regulation (FAR) to delete obsolete regulations relating to the year 2000 compliance.

DATES: Effective: December 26, 2014.

FOR FURTHER INFORMATION CONTACT: Mr. Edward Loeb, Procurement Analyst, at 202-501-0650, for clarification of content. For information pertaining to status or publication schedules, contact the Regulatory Secretariat at 202-501-4755. Please cite FAC 2005-78, FAR Case 2014-006.

SUPPLEMENTARY INFORMATION:

I. Background

DoD, GSA, and NASA published a proposed rule in the Federal Register at 79 FR 16274 on March 25, 2014. No public comments were submitted. The final rule makes no changes from the proposed rule.

DoD, GSA, and NASA are amending the FAR to delete obsolete coverage relating to the year 2000 compliance at FAR 39.002, 39.101(a) and 39.106. Also, the rule makes conforming changes to FAR 39.107 and the introductory text to the clause at FAR 52.239-1. The year 2000 coverage is outdated, and no longer needed because all of the issues addressing the transition to year 2000 compliance language have been resolved. Executive Order (E.O.) 13563, Improving Regulation and Regulatory Review, on retrospective review of regulations, requires agencies to conduct a review and analysis of their regulations and prepare a plan listing regulations that should be modified, streamlined, expanded, or repealed to make the agency's regulatory program more effective or less burdensome in achieving the regulatory objectives. The deletion of this outdated FAR text is consistent with this E.O.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

DoD, GSA, and NASA have prepared a Final Regulatory Flexibility Analysis (FRFA) consistent with the Regulatory Flexibility Act, 5 U.S.C. 601, et seq. The FRFA is summarized as follows:

This rule amends the FAR to delete obsolete coverage relating to the year 2000 compliance at FAR 39.002, 39.101(a) and 39.106. Also, the rule makes conforming changes to FAR 39.107 and the introductory text to the clause at FAR 52.239-1. The year 2000 coverage is no longer needed because all of the issues addressing the transition to year 2000 compliance language have been resolved. Based upon FPDS data, there were 9021 IT contractors in FY 2013, of which 6284 were small businesses. The impact on small businesses is expected to be neutral since we are deleting an obsolete requirement.

The Regulatory Secretariat has submitted a copy of the FRFA to the Chief Counsel for Advocacy of the Small Business Administration. Interested parties may obtain a copy of the FRFA from the Regulatory Secretariat.

V. Paperwork Reduction Act

The rule does not contain any new information collection requirements that require the approval of the Office of Management and Budget under the Paperwork Reduction Act (44 U.S.C. Chapter 35).

List of Subjects in 48 CFR Parts 39 and 52

Government procurement.

Dated: November 17, 2014.
William Clark,
Acting Director, Office of Government-wide Acquisition Policy, Office of Acquisition Policy, Office of Government-wide Policy.

Therefore, DoD, GSA, and NASA amend 48 CFR parts 39 and 52 as set forth below:

1. The authority citation for 48 CFR parts 39 and 52 continues to read as follows:

Authority: 40 U.S.C. 121(c); 10 U.S.C. chapter 137; and 51 U.S.C. 20113.

PART 39—ACQUISITION OF INFORMATION TECHNOLOGY

39.002 [Amended]

2. Amend section 39.002 by removing the definition “Year 2000 compliant”.

39.101 [Amended]

3. Amend section 39.101 by removing paragraph (a); and redesignating paragraphs (b) through (e) as paragraphs (a) through (d), respectively.

39.106 [Removed]

4. Remove section 39.106.

39.107 [Redesignated as 39.106]

5. Redesignate section 39.107 as section 39.106.

PART 52-SOLICITATION PROVISIONS AND CONTRACT CLAUSES

52.239-1 [Amended]

6. Amend section 52.239-1 by removing from the introductory text “39.107” and adding “39.106” in its place.

[FR Doc. 2014-27660 Filed 11-24-14; 8:45 am]

BILLING CODE 6820-EP-P